DEPARTMENT OF LABOR

Mine Safety and Health Administration

Affirmative Decisions on Petitions for Modification Granted in Whole or in Part

AGENCY: Mine Safety and Health Administration (MSHA), Labor.

ACTION: Notice.

SUMMARY: The Federal Mine Safety and Health Act of 1977 and the Code of Federal Regulations govern the application, processing, and disposition of petitions for modification. This Federal Register notice notifies the public that MSHA has investigated and issued a final decision on certain mine operator petitions to modify a safety standard.

ADDRESSES: Copies of the final decisions are posted on MSHA's website at https://www.msha.gov/regulations/rulemaking/petitions-modification. The public may inspect the petitions and final decisions during normal business hours in MSHA's Office of Standards, Regulations, and Variances, 201 12th Street South, Suite 4E401, Arlington, Virginia 22202. All visitors are required to check in at the receptionist's desk in Suite 4E401.

FOR FURTHER INFORMATION CONTACT: Sheila McConnell 202-693-9440 (voice), mcconnell.sheila.a@dol.gov (email), or 202-693-9441 (fax). [These are not toll-free numbers].

SUPPLEMENTARY INFORMATION:

I. Introduction

Under section 101 of the Federal Mine Safety and Health Act of 1977, a mine operator may petition and the Secretary of Labor (Secretary) may modify the application of a mandatory safety standard to that mine if the Secretary determines that: (1) An alternative method exists that will guarantee no less protection for the miners affected than that provided by the standard; or (2) the application of the standard will result in a diminution of safety to the affected miners.

MSHA bases the final decision on the petitioner's statements, any comments and information submitted by interested persons, and a field investigation of the conditions at the mine. In some instances, MSHA may approve a petition for modification on the condition that the mine operator complies with other requirements noted in the decision.

II. Granted Petitions for Modification

On the basis of the findings of MSHA's investigation, and as designee of the Secretary, MSHA has granted or partially granted the following petitions for modification:

• Docket Number: M-2012-147-C.

FR Notice: 77 FR 42015 (7/17/2012).

Petitioner: Marshall County Coal Company (formerly McElroy Coal Company), Three Gateway Center, Suite 1340, 401 Liberty Avenue, Pittsburgh, Pennsylvania 15222.

Mine: Marshall County Mine, MSHA I.D. No. 46-01437, located in Marshall County, West Virginia.

Regulation Affected: 30 CFR 75.507-1(a) (Electric equipment other than power-connection points; outby the last open crosscut; return air; permissibility requirements).

• Docket Number: M-2012-158-C.

FR Notice: 77 FR 57158 (9/17/2012).

Petitioner: Blue Mountain Energy, Inc., 3607 County Road #65, Rangely, Colorado 81648.

Mine: Deserado Mine, MSHA I.D. No. 05-03505, located in Rio Blanco County, Colorado.

Regulation Affected: 30 CFR 75.500(d) (Permissible electric equipment).

• Docket Number: M-2012-159-C.

FR Notice: 77 FR 57158 (9/17/2012).

Petitioner: Blue Mountain Energy, Inc., 3607 County Road #65, Rangely, Colorado 81648

Mine: Deserado Mine, MSHA I.D. No. 05-03505, located in Rio Blanco County, Colorado.

Regulation Affected: 30 CFR 75.507-1(a) (Electric equipment other than power-connection points; outby the last open crosscut; return air; permissibility requirements).

• Docket Number: M-2012-160-C.

FR Notice: 77 FR 57159 (9/17/2012).

Petitioner: Blue Mountain Energy, Inc., 3607 County Road #65, Rangely, Colorado 81648

Mine: Deserado Mine, MSHA I.D. No. 05-03505, located in Rio Blanco County, Colorado.

Regulation Affected: 30 CFR 75.1002(a) (Installation of electric equipment and conductors; permissibility).

• Docket Number: M-2013-012-C.

FR Notice: 78 FR 13093 (2/26/2013).

Petitioner: Peabody Midwest Mining, LLC, Three Gateway Center, Suite 1500, 40l Liberty Avenue, Pittsburgh, Pennsylvania 15222.

Mine: Wildcat Hills Mine-Underground, MSHA I.D. No. 11-03156, located in Saline County, Illinois.

Regulation Affected: 30 CFR 75.507-1(a) (Electric equipment other than power-connection points; outby the last open crosscut; return air; permissibility requirements).

• Docket Number: M-2013-013-C.

FR Notice: 78 FR 13094 (2/26/2013).

Petitioner: Peabody Midwest Mining, LLC, Three Gateway Center, Suite 1500, 40l Liberty Avenue, Pittsburgh, Pennsylvania 15222.

Mine: Wildcat Hills Mine-Underground, MSHA I.D. No. 11-03156, located in Saline County, Illinois.

Regulation Affected: 30 CFR 75.1002(a) (Installation of electric equipment and conductors; permissibility).

• Docket Number: M-2013-032-C.

FR Notice: 78 FR 49778 (8/15/2013).

Petitioner: Wolf Run Mining, LLC, 21550 Barbour County Hwy., Philippi, West Virginia 26416.

Mine: Sentinel Mine, MSHA I.D. No. 46-04168, located in Barbour County, West Virginia.

Regulation Affected: 30 CFR 75.500(d) (Permissible electric equipment).

• Docket Number: M-2013-033-C.

FR Notice: 78 FR 49779 (8/15/2013).

Petitioner: Wolf Run Mining, LLC, 21550 Barbour County Hwy., Philippi, West Virginia 26416.

Mine: Sentinel Mine, MSHA I.D. No. 46-04168, located in Barbour County, West Virginia.

Regulation Affected: 30 CFR 75.507-1(a) (Electric equipment other than power-connection points; outby the last open crosscut; return air; permissibility requirements).

• Docket Number: M-2013-034-C.

FR Notice: 78 FR 49779 (8/15/2013).

Petitioner: Wolf Run Mining, LLC, 21550 Barbour County Hwy., Philippi, West Virginia 26416.

Mine: Sentinel Mine, MSHA I.D. No. 46-04168, located in Barbour County, West Virginia.

Regulation Affected: 30 CFR 75.1002(a) (Installation of electric equipment and conductors; permissibility).

• Docket Number: M-2014-010-C.

FR Notice: 79 FR 30173 (5/27/2014).

Petitioner: Bridger Coal Company, P.O. Box 68, Point of Rocks, Wyoming 82942.

Mine: Bridger Underground Coal Mine, MSHA I.D. No. 48-01646, located in Sweetwater County, Wyoming.

Regulation Affected: 30 CFR 75.500(d) (Permissible electric equipment).

• Docket Number: M-2015-019-C.

FR Notice: 80 FR 67428 (11/2/2015).

Petitioner: Utah American Energy, Inc., 794 North “C” Canyon Road, East Carbon, Utah 84520.

Mine: Lila Canyon Mine, MSHA I.D. No. 42-02241, located in Emery County, Utah.

Regulation Affected: 30 CFR 75.500(d) (Permissible electric equipment).

• Docket Number: M-2015-020-C.

FR Notice: 80 FR 67430 (11/2/2015).

Petitioner: Utah American Energy, Inc., 794 North “C” Canyon Road, East Carbon, Utah 84520.

Mine: Lila Canyon Mine, MSHA I.D. No. 42-02241, located in Carbon County, Utah.

Regulation Affected: 30 CFR 75.507-1(a) (Electric equipment other than power-connection points; outby the last open crosscut; return air; permissibility requirements).

• Docket Number: M-2015-021-C.

FR Notice: 80 FR 67431 (11/2/2015).

Petitioner: Utah American Energy, Inc., 794 North “C” Canyon Road, East Carbon, Utah 84520.

Mine: Lila Canyon Mine, MSHA I.D. No. 42-02241, located in Carbon County, Utah.

Regulation Affected: 30 CFR 75.1002(a) (Installation of electric equipment and conductors; permissibility).

• Docket Number: M-2016-023-C.

FR Notice: 81 FR 47421 (7/21/2016).

Petitioner: Utah American Energy, Inc., 794 North “C” Canyon Road, East Carbon, Utah 84520.

Mine: Lila Canyon Mine, MSHA I.D. No. 42-02241, located in Carbon County, Utah.

Regulation Affected: 30 CFR 75.1002(a) (Installation of electric equipment and conductors; permissibility).

• Docket Number: M-2016-028-C.

FR Notice: 81 FR 79522 (11/14/2016).

Petitioner: River View Coal, LLC, 835 State Route 1179, Waverly, Kentucky 42462.

Mine: River View Mine, MSHA I.D. No. 15-19374, located in Union County, Kentucky.

Regulation Affected: 30 CFR 75.500(d) (Permissible electric equipment).

• Docket Number: M-2016-029-C.

FR Notice: 81 FR 79522 (11/14/2016).

Petitioner: River View Coal, LLC, 835 State Route 1179, Waverly, Kentucky 42462.

Mine: River View Mine, MSHA I.D. No. 15-19374, located in Union County, Kentucky.

Regulation Affected: 30 CFR 75.507-1(a) (Electric equipment other than power-connection points; outby the last open crosscut; return air; permissibility requirements).

• Docket Number: M-2017-023-C.

FR Notice: 82 FR 60046 (12/18/2017).

Petitioner: Bronco Utah Operations, LLC, P.O. Box 527, Emery, Utah 84522.

Mine: Emery Mine, MSHA I.D. No. 42-00079, located In Emery County, Utah.

Regulation Affected: 30 CFR 75.1002(a) (Installation of electric equipment and conductors; permissibility).

• Docket Number: M-2017-024-C.

FR Notice: 82 FR 61033 (12/26/2017).

Petitioner: ICG Illinois, LLC, 5945 Lester Road, Williamsville, Illinois 62693.

Mine: Viper Mine, MSHA I.D. No. 11-02664, located in Sangamon County, Illinois.

Regulation Affected: 30 CFR 75.500(d) (Permissible electric equipment).

• Docket Number: M-2017-025-C.

FR Notice: 82 FR 61033 (12/26/2017).

Petitioner: ICG Illinois, LLC, 5945 Lester Road, Williamsville, Illinois 62693.

Mine: Viper Mine, MSHA I.D. No. 11-02664, located in Sangamon County, Illinois.

Regulation Affected: 30 CFR 75.507-1(a) (Electric equipment other than power-connection points; outby the last open crosscut; return air; permissibility requirements).

• Docket Number: M-2017-027-C.

FR Notice: 82 FR 61332 (12/27/2017).

Petitioner: Bronco Utah Operations, LLC, P.O. Box 527, Emery, Utah 84522.

Mine: Emery Mine, MSHA I.D. No. 42-00079, located in Emery County, Utah.

Regulation Affected: 30 CFR 75.500(d) (Permissible electric equipment).

• Docket Number: M-2017-028-C.

FR Notice: 82 FR 61333 (12/27/2017).

Petitioner: Bronco Utah Operations, LLC, P.O. Box 527, Emery, Utah 84522.

Mine: Emery Mine, MSHA I.D. No. 42-00079, located in Emery County, Utah.

Regulation Affected: 30 CFR 75.507-1(a) (Electric equipment other than power-connection points; outby the last open crosscut; return air; permissibility requirements).

• Docket Number: M-2017-029-C.

FR Notice: 82 FR 61333 (12/27/2017).

Petitioner: Bronco Utah Operations, LLC, P.O. Box 527, Emery, Utah 84522.

Mine: Emery Mine, MSHA I.D. No. 42-00079, located in Emery County, Utah.

Regulation Affected: 30 CFR 75.1002(a) (Installation of electric equipment and conductors; permissibility).

• Docket Number: M-2017-030-C.

FR Notice: 83 FR 3027 (1/22/2018).

Petitioner: Bronco Utah Operations, LLC, P.O. Box 527, Emery, Utah 84522.

Mine: Emery Mine, MSHA I.D. No. 42-00079, located in Emery County, Utah.

Regulation Affected: 30 CFR 75.500(d) (Permissible electric equipment).

• Docket Number: M-2018-015-C.

FR Notice: 83 FR 29141 (6/22/2018).

Petitioner: Spartan Mining Company, LLC, 500 Lee Street East, Suite 701, Charleston, West Virginia 25329.

Mine: Rod Fork #52 Mine, MSHA I.D. No. 46-09522, located in Wyoming County, West Virginia.

Regulation Affected: 30 CFR 75.1700 (Oil and gas wells).

• Docket Number: M-2016-005-M.

FR Notice: 81 FR 55489 (8/19/2016).

Petitioner: United Salt Hockley, LLC, 14002 Warren Ranch Road, Hockley, Texas 77447.

Mine: Hockley Mine, MSHA I.D. No. 41-02478, located in Harris County, Texas.

Regulation Affected: 30 CFR 57.4760 (Shaft mines).

• Docket Number: M-2017-001-M.

FR Notice: 82 FR 23308 (5/22/2017).

Petitioner: Solvay Chemicals, Inc., P.O. Box 1167, 400 County Road 85, Green River, Wyoming 82935.

Mine: Solvay Chemicals Mine, MSHA I.D. No. 48-01295, located in Sweetwater County, Wyoming.

Regulation Affected: 30 CFR 57.22305 (Approved equipment (III mines)).

• Docket Number: M-2018-005-M.

FR Notice: 83 FR 23943 (5/23/2018).

Petitioner: Solvay Chemicals, Inc., P.O. Box 1167, 400 County Road 85, Green River, Wyoming 82935.

Mine: Solvay Chemicals Mine, MSHA I.D. No. 48-01295, located in Sweetwater County, Wyoming.

Regulation Affected: 30 CFR 57.4760 (Shaft mines).

Sheila McConnell,
Director, Office of Standards, Regulations, and Variances.

[FR Doc. 2019-13812 Filed 6-27-19; 8:45 am]

BILLING CODE 4520-43-P